DEPARTMENT OF COMMERCE

International Trade Administration

[A-570-851]

Certain Preserved Mushrooms From the People's Republic of China: Final Results of the Tenth Antidumping Duty New Shipper Review

AGENCY: Import Administration, International Trade Administration, Department of Commerce.

SUMMARY: On August 15, 2007, the Department of Commerce (“the Department”) published in the Federal Register the preliminary results of the new shipper review of the antidumping duty order on certain preserved mushrooms from the People's Republic of China (“PRC”) for Guangxi Jisheng Foods, Inc. (“Jisheng”). See Certain Preserved Mushrooms From the People's Republic of China: Preliminary Results of the Antidumping Duty New Shipper Review, 72 FR 45734 (August 15, 2007) (“Preliminary Results”). We gave interested parties an opportunity to comment on the Preliminary Results, but we did not receive any comment. Also, we find after reviewing the record evidence submitted by interested parties after the Preliminary Results that there is no other basis to change the Preliminary Results. Therefore, we made no changes to the dumping margin calculations for these final results.

DATES: Effective Dates: December 6, 2007.

FOR FURTHER INFORMATION CONTACT: Julia Hancock, AD/CVD Operations, Office 9, Import Administration, International Trade Administration, U.S. Department of Commerce, 14th Street and Constitution Avenue, NW., Washington, DC 20230; telephone: (202) 482-1394.

SUPPLEMENTARY INFORMATION:

Case History

The Preliminary Results for this administrative review were published on August 15, 2007. Since the Preliminary Results, the following events have occurred:

Questionnaires

On August 30, 2007, the Department issued a post-preliminary results supplemental questionnaire to Jisheng. On September 12, 2007, Jisheng requested a two-day extension to respond to the Department's August 30, 2007, supplemental questionnaire. On September 12, 2007, the Department granted Jisheng an extension of two days to submit its response to the August 30, 2007, questionnaire. On September 14, 2007, Jisheng submitted its post-preliminary results supplemental questionnaire response.

Verification

On September 12, 2007, the Department issued the verification schedule of Jisheng. On October 5, 2007, the Department issued the outline of the verification of Jisheng that was scheduled for October 22 through 24, 2007. On October 18, 2007, the Department notified interested parties that the verification of Jisheng had been cancelled.

Case Briefs and Rebuttal Briefs

On October 3, 2007, because the Department had extended the final results of this new shipper review and intended to verify Jisheng, the Department extended the deadline for interested parties to submit case briefs and rebuttal briefs. The Department extended the deadline for case briefs from September 14, 2007 to November 14, 2007, and rebuttal briefs from September 19, 2007 to November 19, 2007.

On October 18, 2007, the Department notified interested parties that, due to the cancellation of Jisheng's verification, the deadline to submit case briefs was November 1, 2007. Additionally, the deadline to submit rebuttal briefs was changed to November 6, 2007.

Hearing

No party requested a hearing for this new shipper review.

Extension of Final Results

On September 27, 2007, the Department extended the time limit for completion of the final results of the instant new shipper review. See Certain Preserved Mushrooms From the People's Republic of China: Extension of Time Limit for the Final Results of the Tenth Antidumping Duty New Shipper Review, 72 FR 54899 (September 27, 2007).

Scope of the Order

The products covered by this order are certain preserved mushrooms, whether imported whole, sliced, diced, or as stems and pieces. The certain preserved mushrooms covered under this order are the species Agaricus bisporus and Agaricus bitorquis. “Certain Preserved Mushrooms” refers to mushrooms that have been prepared or preserved by cleaning, blanching, and sometimes slicing or cutting. These mushrooms are then packed and heated in containers including, but not limited to, cans or glass jars in a suitable liquid medium, including, but not limited to, water, brine, butter or butter sauce. Certain preserved mushrooms may be imported whole, sliced, diced, or as stems and pieces. Included within the scope of this order are “brined” mushrooms, which are presalted and packed in a heavy salt solution to provisionally preserve them for further processing.

Excluded from the scope of this order are the following: (1) All other species of mushroom, including straw mushrooms; (2) all fresh and chilled mushrooms, including “refrigerated” or “quick blanched mushrooms”; (3) dried mushrooms; (4) frozen mushrooms; and (5) “marinated,” “acidified,” or “pickled” mushrooms, which are prepared or preserved by means of vinegar or acetic acid, but may contain oil or other additives.¹

¹ On June 19, 2000, the Department affirmed that “marinated,” “acidified,” or “pickled” mushrooms containing less than 0.5 percent acetic acid are within the scope of the antidumping duty order. See “Recommendation Memorandum-Final Ruling of Request by Tak Fat, et al. for Exclusion of Certain Marinated, Acidified Mushrooms from the Scope of the Antidumping Duty Order on Certain Preserved Mushrooms from the People's Republic of China,” dated June 19, 2000. On February 9, 2005, this decision was upheld by the United States Court of Appeals for the Federal Circuit. See Tak Fat v. United States, 396 F.3d 1378 (Fed. Cir. 2005).

The merchandise subject to this order is classifiable under subheadings: 2003.10.0127, 2003.10.0131, 2003.10.0137, 2003.10.0143, 2003.10.0147, 2003.10.0153 and 0711.51.0000 of the Harmonized Tariff Schedule of the United States (“HTSUS”). Although the HTSUS subheadings are provided for convenience and customs purposes, the written description of the scope of this order is dispositive.

Analysis of Comments Received

No interested parties submitted comments for these final results.

Changes Since the Preliminary Results

We made no changes to the Preliminary Results.

Final Results of Review

We find that the following margin exists during the period February 1, 2006, through September 12, 2006:

Certain Preserved Mushrooms From the PRC
Exporter/ manufacturer | Weighted-average margin (percent)
Guangxi Jisheng Foods, Inc. | 0.00

Assessment Rates

Upon issuance of the final results, the Department will determine, and U.S. Customs and Border Protection (“CBP”) shall assess, antidumping duties on all appropriate entries. The Department intends to issue assessment instructions for Jisheng to CBP 15 days after the date of publication of the final results of review. Pursuant to 19 CFR 351.212(b)(1), we will calculate importer-specific (or customer) ad valorem duty assessment rates based on the ratio of the total amount of the dumping margins calculated for the examined sales to the total entered value of those same sales. We will instruct CBP to assess antidumping duties on all appropriate entries covered by this review if any importer-specific assessment rate calculated in the final results of this review is above de minimis.

Cash Deposit Requirements

The following cash deposit requirements will be effective upon publication of these results of the new shipper review for all shipments of subject merchandise from Jisheng entered, or withdrawn from warehouse, for consumption on or after the publication date: (1) For subject merchandise produced and exported by Jisheng, no cash deposit will be required; (2) for subject merchandise exported by Jisheng but not manufactured by itself, the cash deposit rate will continue to be the PRC-wide rate (i.e., 198.63 percent); and (3) for subject merchandise manufactured by Jisheng but exported by any other party, the cash deposit rate will be the rate applicable to the exporter. These requirements will remain in effect until publication of the final results of the next administrative review.

Reimbursement of Duties

This notice also serves as a final reminder to importers of their responsibility under 19 CFR 351.402(f) to file a certificate regarding the reimbursement of antidumping duties prior to liquidation of the relevant entries during this POR. Failure to comply with this requirement could result in the Secretary's presumption that reimbursement of antidumping duties occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This new shipper review and notice are in accordance with sections 751(a)(2)(B) and 777(i) of the Tariff Act of 1930, as amended, and 19 CFR 351.214(h).

Dated: November 28, 2007.
David M. Spooner,
Assistant Secretary for Import Administration.

[FR Doc. E7-23688 Filed 12-5-07; 8:45 am]

BILLING CODE 3510-DS-P